DEPARTMENT OF TRANSPORTATION

Federal Aviation Administration

14 CFR Part 107

[Docket No. FAA-2021-1158; Notice No. 107-21-01-NOA]

Accepted Means of Compliance; Operations Over Human Beings, Category 2 and Category 3 Small Unmanned Aircraft

AGENCY: Federal Aviation Administration, DOT.

ACTION: Notification of availability.

SUMMARY: This document announces the acceptance of a means of compliance (MOC) in accordance with a rule issued by the FAA on January 21, 2021, and went into effect on April 21, 2021. The Administrator finds the Virginia Tech Mid-Atlantic Aviation Partnership (VT MAAP) MOC Version 1.0 an acceptable means, but not the only means, of demonstrating compliance with the requirements of Category 2 and Category 3 small unmanned aircraft systems (small UAS) operations over people.

DATES: December 16, 2021.

FOR FURTHER INFORMATION CONTACT:

FAA Contact: Jeffrey Bergson, Production and Airworthiness Systems, AIR-632, Systems Policy Branch, Policy and Innovation Division, Aircraft Certification Service, Federal Aviation Administration, AIR-600: 800 Independence Ave SW, Washington, DC 20591; telephone 206-231-3661; email: jeffrey.bergson@faa.gov; telephone 1-844-FLY-MYUA; email: UASHelp@faa.gov.

VT MAAP Contact: Robert Briggs, UAS Chief Engineer, 1991 Kraft Drive, Suite 2018, Blacksburg, VA 24061, (540) 231-9373; rcbriggs@vt.edu.

SUPPLEMENTARY INFORMATION:

Background

The FAA published Title 14 Code of Federal Regulations, part 107, subpart D permitting the routine operation of small UAS at night or over people under certain conditions. Subpart D also provides aircraft eligibility and operating requirements for categories of operations over people. When promulgated, this rule was the next step in the FAA's incremental approach to integrating UAS into the national airspace system, based on demands for increased operational flexibility and the experience the FAA has gained since it initially published part 107.

To satisfy the eligibility requirements of part 107, subpart D, a small unmanned aircraft must meet the performance-based safety requirements of § 107.120(a) for operations in Category 2 or the performance-based safety requirements of § 107.130(a) for operations in Category 3 or both by following an FAA-accepted MOC. An FAA-accepted MOC addresses the minimum testing, inspection, or analysis necessary to demonstrate compliance with the safety requirements.

An acceptable MOC must consist of test, analysis, or inspection. It must address the injury severity limits, the exposed rotating parts prohibition, and verification that there are no safety defects. The FAA must accept a MOC before an applicant can rely on it to declare compliance with part 107, subpart D requirements. In addition, the FAA indicates acceptance of a MOC by publishing a Notice of Availability in the Federal Register identifying the MOC as accepted and by informing the applicant of its acceptance.¹

¹ Operation of Small Unmanned Aircraft Systems Over People, 86 FR 4314 (January 15, 2021), available at https://www.regulations.gov/document/FAA-2018-1087-0968.

Means of Compliance Accepted in This Policy

VT MAAP published the Operation of Small UAS Over People MOC Version 1.0 on October 20, 2021. The FAA has acknowledged VT MAAP's performance-based MOC as an acceptable MOC to the requirements of § 107.120(a) for operations in Category 2, or the requirements of § 107.130(a) for operations in Category 3.

To utilize this MOC, an applicant should provide the VT MAAP Federal Aviation Administration designated UAS Test Site with data on the small unmanned aircraft. VT MAAP Test Site utilizes this information to conduct a safety defect and failure assessment. This assessment will determine the required testing to assess the small unmanned aircraft's impact injury severity and laceration potential. The VT MAAP Test Site will conduct the necessary testing and document the results. Lastly, VT MAAP conducts a final safety and compliance review to determine the small unmanned aircraft compliance with § 107.120(a) or § 107.130(a) as applicable. VT MAAP provides the results of this process to the applicant for inclusion in a Declaration of Compliance.

Availability

This notice serves as a formal acceptance by the Federal Aviation Administrator of the Virginia Tech Mid-Atlantic Aviation Partnership's Means of Compliance Version 1.0.

Issued in Washington, DC, on December 10, 2021.
Brian E. Cable,
Manager, Systems Policy Branch, Policy and Innovation Division, Aircraft Certification Service.

[FR Doc. 2021-27188 Filed 12-15-21; 8:45 am]

BILLING CODE 4910-13-P